DEPARTMENT OF VETERANS AFFAIRS

[OMB Control No. 2900-0101]

Agency Information Collection Activity Under OMB Review: Eligibility Verification Reports (EVRs)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0101”.

FOR FURTHER INFORMATION CONTACT: Maribel Aponte, Office of Enterprise and Integration, Data Governance Analytics (008), 810 Vermont Ave. NW, Washington, DC 20420, (202) 266-4688 or email maribel.aponte@va.gov.

Please refer to “OMB Control No. 2900-0101” in any correspondence.

SUPPLEMENTARY INFORMATION:

Authority: Information is requested by this form under the authority of 38 U.S.C. 1506, regulatory authority is found in 38 CFR 3.277.

Title: Eligibility Verification Reports (EVRs) VA Forms: 21P-0510, 21P-0510 (Spanish), 21P-0512S-1, 21P-0512S-1 (Spanish), VA Form 21P-0512V-1, 21P-0513-1, 21P-0513-1 (Spanish), 21P-0514-1, 21P-0514-1(Spanish), 21P-0516-1, 21P-0516-1 (Spanish), 21P-0517-1, 21P-0517 (Spanish), 21P-0518-1, 21P-0518-1 (Spanish), 21P-0519C-1, 21P-0519C-1 (Spanish), 21P-0519S-1, 21P-0519S-1 (Spanish).

OMB Control Number: 2900-0101.

Type of Review: Extension of a previously approved collection.

Abstract: A claimant's eligibility for Pension is determined, in part, by countable family income and net worth. Any individual who has applied for, or receives, VA Pension or Parents' Dependency and Indemnity Compensation (DIC) must promptly notify the VA in writing of any change in entitlement factors. VBA uses Eligibility Verification Reports (EVRs) to receive income and net worth information from Pension and Parents DIC claimants and beneficiaries to evaluate eligibility for benefits. The reported information can result in increased or decreased benefits. Typically, the claimants and beneficiaries utilize the form to notify the VA of changes in income and net worth, though the forms could be used to reopen a claim for benefits in limited circumstances. This is a request for an extension of the EVR collections with no substantive changes.

An agency may not conduct or sponsor, and a person is not required to respond to a collection of information unless it displays a currently valid OMB control number. The Federal Register Notice with a 60-day comment period soliciting comments on this collection of information was published at 89 FR 14154 on Monday, February 26, 2024, pages 14154 and 14155.

Affected Public: Individuals or households.

Estimated Annual Burden: 34,500 hours.

Estimated Average Burden per Respondent: 30 minutes.

Frequency of Response: One time.

Estimated Number of Respondents: 69,000.

By direction of the Secretary.
Maribel Aponte,
VA PRA Clearance Officer, Office of Enterprise and Integration, Data Governance Analytics, Department of Veterans Affairs.

[FR Doc. 2024-09392 Filed 4-30-24; 8:45 am]

BILLING CODE 8320-01-P